DEPARTMENT OF TRANSPORTATION

Federal Aviation Administration

14 CFR Part 39

[Docket No. 2001-NE-20; Amendment 39-12641; AD 2002-02-13]

RIN 2120-AA64

Airworthiness Directives; CFM International, S.A. CFM56-5 Series Turbofan Engines; Correction

AGENCY: Federal Aviation Administration, DOT.

ACTION: Final rule; correction.

SUMMARY: This document makes a correction to Airworthiness Directive (AD) 2002-02-13, applicable to CFM International, S.A. CFM56-5 series turbofan engines that was published in the Federal Register on February 14, 2002 (67 FR 6850). The Amendment number is incorrect and this document corrects that number. In all other respects, the original document remains the same.

EFFECTIVE DATE: March 21, 2002.

FOR FURTHER INFORMATION CONTACT: James Rosa, Aerospace Engineer, Engine Certification Office, FAA, Engine and Propeller Directorate, 12 New England Executive Park, Burlington, MA 01803-5299; telephone (781) 238-7152, fax (781) 238-7199.

SUPPLEMENTARY INFORMATION: A final rule airworthiness directive applicable to CFM International, S.A. CFM56-5 series turbofan engines, was published in the Federal Register on February 14, 2002 (67 FR 6850). The following correction is needed:

On page 6850, in the first column, the Amendment No. in the fifth line of the Heading is corrected to read “Amendment 39-12641.”

PART 39—[CORRECTED]

§ 39.13 [Corrected]

On page 6851, in the third column, in the heading of the AD, in the second line, correct “Amendment 39-12461” to read “Amendment 39-12641”.

Issued in Burlington, MA, on March 12, 2002.
Francis A. Favara,
Acting Manager, Engine and Propeller Directorate, Aircraft Certification Service.

[FR Doc. 02-6530 Filed 3-19-02; 8:45 am]

BILLING CODE 4910-13-U